ENVIRONMENTAL PROTECTION AGENCY

40 CFR Part 52

[PA 112-4084; FRL-6702-7]

Approval and Promulgation of Air Quality Implementation Plans; Pennsylvania; Withdrawal of Proposed Rule

AGENCY: Environmental Protection Agency (EPA).

ACTION: Withdrawal of notice of proposed rulemaking.

SUMMARY: On February 2, 1999 (64 FR 5015), EPA proposed to approve the Commonwealth of Pennsylvania's regulations for Nitrogen Oxides (NOX) Allowance Requirements (commonly referred to as the NOX Budget Rule) as a revision to the State Implementation Plan (SIP). Prior to our taking any final rulemaking, the Commonwealth informed us that it was revising the rule. On December 27, 1999, the Commonwealth submitted a new SIP revision request to EPA which consists of the revised version of its NOX Budget Rule. Because the Commonwealth of Pennsylvania has now submitted the revised version of its NOX Budget Rule as a SIP revision, we are withdrawing our February 2, 1999 proposed rule on the old version. EPA will initiate a new and separate rulemaking on the Commonwealth's December 27, 1999 SIP revision submittal.

FOR FURTHER INFORMATION CONTACT: Cristina Fernandez, (215) 814-2178, or by e-mail at fernandez.cristina@epa.gov.

Dated: March 19, 2000.
Bradley M. Campbell,
Regional Administrator, Region III.

[FR Doc. 00-12519 Filed 5-17-00; 8:45 am]

BILLING CODE 6560-50-U